DEPARTMENT OF HEALTH AND HUMAN SERVICES

Office of the Secretary/Administration on Aging; Performance Review Board Members

Title 5, U.S.C. Section 4314(c)(4) of the Civil Service Reform Act of 1978, Public Law 95-454, requires that the appointment of Performance Review Board Members be published in the Federal Register.

The following persons will serve on the Performance Review Boards or Panels, which oversee the evaluation of performance appraisals of Senior Executive Service members of the Department of Health and Human Services, Office of the Secretary/Administration on Aging: Evelyn White, Chair; David Cade; Robinsue Frohboese; George Strader; Edwin L. Walker; Ann Marie Lynch; John Jarman.

Dated: October 12, 2004.
Evelyn White,
Principal Deputy Assistant Secretary for Administration and Management.

[FR Doc. 04-23415 Filed 10-19-04; 8:45 am]

BILLING CODE 5150-04-M